DEPARTMENT OF TRANSPORTATION

National Highway Traffic Safety Administration

Reports, Forms, and Recordkeeping Requirements: Agency Information Collection Activity Under OMB Review

AGENCY: National Highway Traffic Safety Administration (NHTSA), DOT.

ACTION: Notice.

SUMMARY: In compliance with the Paperwork Reduction Act of 1995 (44 U.S.C. 3501 et seq.), this notice announces that the Information Collection Request (ICR) abstracted below has been forwarded to the Office of Management and Budget (OMB) for review and comment. The ICR describes the nature of the information collections and their expected burden. The Federal Register Notice with a 60-day comment period was published on Friday, May 2, 2008 [U.S. DOT Docket No. NHTSA-2008-0091, Federal Register Vol. 73, Pages 24349-24350].

DATES: The public may comment on NHTSA's request to OMB. Comments to OMB must be received on or before October 31, 2008.

FOR FURTHER INFORMATION CONTACT: Jonathan Walker, PhD, Contracting Officer's Technical Representative, Office of Regulatory Analysis and Evaluation, National Highway Traffic Safety Administration, 1200 New Jersey Ave., SE., Room W53-463, Washington, DC 20590.

SUPPLEMENTARY INFORMATION:

National Highway Traffic Safety Administration

Title: 2008 National Survey on Reported and Unreported Motor Vehicle Crashes.

OMB Number: 2127—new.

Type of Request: Request for public comment on proposed collection of information.

Abstract: The data will provide supplementary information on the cost of motor vehicle crashes and injuries. Specifically, it will allow NHTSA to add estimates of costs due to unreported crashes to the estimates currently reported through official police crash reports. The new cost estimates will allow more valid estimates of the costs and benefits of NHTSA's programs.

Affected Public: Individuals.

Estimated Total Annual Burden: 1400 hours.

ADDRESSES: Send comments, within 30 days, to the Office of Information and Regulatory Affairs, Office of Management and Budget, 725 17th Street, NW., Washington, DC 20503, Attention NHTSA Desk Officer.

Comments are invited on: Whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

A comment to OMB is most effective if OMB receives it within 30 days of publication.

Authority: 44 U.S.C. 3506(c)(2)(A).

James Simons,
Director, Office of Regulatory Analysis and Evaluation.

[FR Doc. E8-22742 Filed 9-26-08; 8:45 am]

BILLING CODE 4910-59-P